INTERNATIONAL BOUNDARY AND WATER COMMISSION UNITED STATES AND MEXICO

United States Section; Notice of Extension of Time for Public Comment Period for the Draft Environmental Assessment (EA) and Finding of No Significant Impact (FONSI) for Aquatic Habitat Restoration in the Rio Grande Canalization Project and for the Draft EA and FONSI for the Continued Implementation of the River Management Plan

AGENCY: United States Section, International Boundary and Water Commission, United States and Mexico (USIBWC).

ACTION: Notice of extension of time.

SUMMARY: Pursuant to Section 102(2)(c) of the National Environmental Policy Act, the USIBWC hereby gives notice that the public comment period is being extended for two draft Environmental Assessments, per public request.

DATES: The deadline for comments for the Draft EA and FONSI for Aquatic Habitat Restoration in the Rio Grande Canalization Project is extended an additional 17 calendar days (for a total of 52 days) until July 22, 2019. The deadline for comments for the Draft EA and FONSI for Continued Implementation of the River Management Plan for the Rio Grande Canalization Project is extended an additional 31 calendar days (for a total of 66 days) until August 5, 2019.

ADDRESSES: The electronic versions of the Draft EAs are available at the USIBWC web page: https://www.ibwc.gov/EMD/EIS_EA_Public_Comment.html. Written comments should be sent to: Elizabeth Verdecchia, Natural Resources Specialist, USIBWC, 4191 N Mesa; El Paso, Texas 79902. Fax: (915) 493-2428, Email: Elizabeth.Verdecchia@ibwc.gov.

Dated: July 12, 2019.
Rebecca Rizzuti,
Attorney Advisor, International Boundary and Water Commission, United States Section.

[FR Doc. 2019-15503 Filed 7-19-19; 8:45 am]

BILLING CODE 7010-01-P